DEPARTMENT OF JUSTICE

Notice of Lodging of Consent Judgments Pursuant to Comprehensive Environmental Response, Compensation, and Liability Act

Notice is hereby given that on July 11, 2005, two proposed Consent Judgments in United States v. City of Glen Cove, et al. Civil Action No. CV-05-3279, were lodged with the United States District Court for the Eastern District of New York.

The proposed Consent Judgments will settle the United States' claims on behalf of the U.S. Environmental Protection Agency (“EPA”) brought against defendants City of Glen Cover (“City”) and Wah Chang Smelting and Refining Company of America, Inc. (“WCSRCA”) pursuant to Sections 106 and 107 of the Comprehensive Environmental Response, Compensation, and Liability Act (“CERCLA”), 42 U.S.C. 9606 and 9607, with respect to the Li Tungsten Superfund Site in Glen Cove, New York.

Pursuant to the Consent Judgments, based on their respective abilities to pay, the City will pay $1.6 million (in addition to the $3.6 million in funds and in-kind services it has already provided to EPA) and WCSRCA and certain affiliated entities will pay $700,000 to a Li Tungsten Site Special Account within the Superfund.

The Department of Justice will receive for a period of thirty (30) days from the date of this publication comments relating to either or both of the proposed Consent Judgments. Comments should be addressed to the Assistant Attorney General of the Environment and Natural Resources Division, Department of Justice, Washington, DC 20530, and should refer to United States v. City of Glen Cove, et al., Civil Action No. CV-05-3279, D.J. Ref. 90-11-3-06561/2.

The proposed Consent Judgment may be examined at the Office of the United States Attorney, Eastern District of New York, One Pierrepont Plaza, 14th Fl., Brooklyn, New York 11201, and at the United States Environmental Protection Agency, Region II, 290 Broadway, New York, New York 10007-1866. During the public comment period, the proposed Consent Judgments may also be examined on the following Department of Justice Web site, http://www.usdoj.gov/enrd/open.html. Copies of the proposed Consent Judgments may be obtained by mail from the Consent Decree Library, P.O. Box 7611, U.S. Department of Justice, Washington, DC 20044-7611 or by faxing or e-mailing a request to Tonia Fleetwood (tonia.fleetwood@usdoj.gov), fax no. (202) 514-0097, phone confirmation number (202) 514-1547. If requesting a copy of a proposed Consent Judgment, please so note and enclose a check in the amount of $9.00 ($0.25 per page reproduction cost) for the City of Glen Cove Consent Judgement, $10.25 ($0.25 per page reproduction cost) for the WCSRCA Consent Judgment, or $19.25 for both Consent Judgments, payable to the United States Treasury.

Ronald Gluck,
Assistant Chief, Environmental Enforcement Section, Environment and Natural Resources Division.

[FR Doc. 05-14892 Filed 7-26-05; 8:45 am]

BILLING CODE 4410-15-M